DEPARTMENT OF THE INTERIOR

National Park Service

[NPS-WASO-NAGPRA-NPS0038465; PPWOCRADN0-PCU00RP14.R50000]

Notice of Inventory Completion: U.S. Army Corps of Engineers, Omaha District, Omaha, NE, and the University of Tennessee, Knoxville, Department of Anthropology, Knoxville, TN

AGENCY: National Park Service, Interior.

ACTION: Notice.

SUMMARY: In accordance with the Native American Graves Protection and Repatriation Act (NAGPRA), the U.S. Army Corps of Engineers, Omaha District, and the University of Tennessee, Knoxville (UTK), Department of Anthropology, have completed an inventory of human remains and associated funerary objects and has determined that there is a cultural affiliation between the human remains and associated funerary objects and Indian Tribes or Native Hawaiian organizations in this notice.

DATES: Repatriation of the human remains and associated funerary objects in this notice may occur on or after September 11, 2024.

ADDRESSES: Ms. Livia Taylor, U.S. Army Corps of Engineers, Omaha District, ATTN: CENWO-PMA-C, 1616 Capitol Avenue, Omaha, NE 68102, telephone (402) 995-2434, email livia.a.taylor@usace.army.mil and Dr. Ellen Lofaro, University of Tennessee, Office of Repatriation, 5723 Middlebrook Pike, Knoxville, TN 37921-6053, telephone (865) 974-3370, email nagpra@utk.edu.

SUPPLEMENTARY INFORMATION: This notice is published as part of the National Park Service's administrative responsibilities under NAGPRA. The determinations in this notice are the sole responsibility of the U.S. Army Corps of Engineers, Omaha District, and additional information on the determinations in this notice, including the results of consultation, can be found in its inventory or related records. The National Park Service is not responsible for the determinations in this notice.

Abstract of Information Available

North Dakota

Human remains representing, at minimum, one individual was removed from Mercer County, ND. The human skeletal remains include one adult that was removed from the Rock Village site (32ME15). Site investigation began in 1947 with Marvin F. Kivett and later in 1950 extensive excavations were directed by G. Ellis Burcaw. The site is a fortified earthlodge village that has been identified as belonging temporally to the Knife River Phase (A.D. 1780-1845). No known individuals were identified. There are no associated funerary objects.

Human remains representing, at minimum, one individual was removed from Sioux County, ND. The human skeleton remains include one adult that was removed from the Paul Brave site (32SI4), also known as the Fort Yates site. In 1947, the University of North Dakota and the State Historical Society of North Dakota co-sponsored archeological work in the upper limits of the Oahe Reservoir, a U.S. Army Corps of Engineers reservoir in North Dakota. Test excavations at 32SI4 were included in the work done during this project. The site was investigated a second time in 1955, under the sponsorship of the State Historical Society of North Dakota. No known individuals were identified. There are no associated funerary objects.

Human remains representing, at minimum, 25 individuals were removed from Sioux County, ND. The human skeletal remains include eight adults, four adult females, eight adult males, and five children that were removed from the Boundary Mounds site (32SI1). These individuals were removed in 1960 by Robert W. Neuman as part of a Smithsonian River Basin Survey project and were sent by the State Historical Society of North Dakota to William Bass. It is likely this occurred while Bass was at the University of Kansas and he later brought the individuals with him to University of Tennessee, Knoxville (UTK). The Boundary Mounds site is a Middle Woodland site with four burial mounds that has been identified as a Sonota Complex site dating between A.D. 1-A.D. 600. No known individuals were identified. The 44 associated funerary objects are one rock, six timber fragments, seven lithics, and 30 faunal bones.

South Dakota

Human remains representing, at minimum, six individuals were removed from Campbell County, SD. The human skeletal remains include one infant, one non-adult, and four adults that were removed from the Anton Rygh site (39CA4). During the summers of 1965, 1966, 1968, 1969, 1970, and 1973, human remains were removed from site 39CA4 under the direction of William Bass. Post-excavation, Bass transferred the human remains to the University of Kansas. In 1971, Bass transferred the human remains to UTK. Site 39CA4 is a large, multi-component earth lodge village, part of the Plains Village Tradition. It is a fortified village site covering around 11-12 acres. At least two occupations are suggested by archeological evidence. The first occupation dates to the Extended Middle Missouri period (A.D. 1000-1500), while the second occupation dates to the Extended Coalescent (A.D. 1500-1675) and Post Contact Coalescent (A.D. 1675-1780) periods. No known individuals were identified. The one associated funerary object is a faunal bone.

Human remains, representing, at minimum 15 individuals were removed from Campbell County, SD. The human skeletal remains include nine adults, three young adults, and three children from the Helb site (39CA208). These individuals had been loaned to the Smithsonian Institution by Marvin Kay and were returned to the U.S. Army Corps of Engineers in 2024. The site was identified in 1966 by J.J. Hoffman, David Evans, Donald J. Lehmer, and William M. Bass and excavated in the early 1970s. The site is a fortified village site dating to the Extended Middle Missouri period (A.D. 1150-1550). No known individuals were identified. The 21 associated funerary objects are faunal remains.

Human remains representing, at minimum, one individual was removed from Charles Mix County, SD. The human skeletal remains include one adult male that was removed from site 39CH212. This individual was removed on an unknown date and transferred to the South Dakota State Archaeological Research Center. Sometime between 1987-1988, this individual was transferred to UTK for inventory and then transferred back to SARC. However, UTK retained a portion of this individual. Site 39CH212 dates to the Woodland period (1500 B.C.-AD. 900). No known individuals were identified. The one associated funerary object is a soil sample.

Human remains representing, at minimum, two individuals were removed from Corson County, SD. The human skeletal remains include two infants removed from the Potts Village site (39CO19) in the late 1980s and subsequently stored at South Dakota's State Archaeological Research Center (SARC). In 1988, these human remains were transferred by SARC to UTK for inventory and were retained by UTK. The site is a fortified earth lodge village dating to the Extended Coalescent Period (A.D. 1550-1675). No known individuals were identified. The 271 associated funerary objects are faunal remains.

Human remains representing, at minimum, one individual was removed from Hughes County, SD. The human skeletal remains include one adult that was removed from the Bleached Bone site (39HU48). In 1931, Alfred Bowers removed eleven burials from a previously looted mound at 39HU48 during investigations sponsored by the Logan Museum. Additional investigations were conducted by the Missouri River Basin Project (MRBP) in 1962, during which field crew 10, directed by William Bass, removed an additional 13 burials. The site included stone circles, mounds, and other configurations. Woodland Period (500 B.C.-A.D. 1000) pottery was reportedly found during the 1962 season. In addition, the presence of a metallic projectile point suggested possible occupation during the Historic Period. No known individuals were identified. The 52 associated funerary objects are faunal remains.

Human remains representing, at minimum, one individual was removed from Lyman County, SD. The human skeletal remains include one adult individual that was removed from the Langdeau site, 39LM209. This individual was likely removed from the site during excavations in the 1960s. The site is an earthlodge village that has been dated to the Initial Middle Missouri period (A.D. 1000-1100). No known individuals were identified. The four associated funerary objects are faunal remains.

Human remains representing, at minimum, one individual was removed from the Second Hand site (39PO207) Potter County, SD. The circumstances of the removal of this individual are not well-known. This individual may have been one of eight burials that were reported as being exposed by local residents, reburied, and then subsequently collected by William Bass in 1962. The site was likely identified during surveys by W.R. Farrell and Jake Hoffman in 1952. The chronology of the site is unknown. No known individuals were identified. There are no associated funerary objects.

Human remains representing, at minimum, one individual was removed from Stanley County, SD. The human skeletal remains that include one adult were removed from the Buffalo Pasture Cemetery site (39ST216). This individual was likely remobed in 1955 when burials of several individuals were uncovered during fill dirt removal. William Bass examined these burials in 1957. The site was a medium-sized fortified village believed to be dated to the 18th century. No known individuals were identified. No associated funerary objects are present.

Human remains representing, at minimum, one individual was removed from an unknown site in Stanley County, SD. The human skeletal remains include on adult female. This individual was removed from a borrow pit north of Oahe Dam at an unknown archaeological site as part of the Missouri River Basin Project and loaned to Bass at the University of Kansas by the State Historical Society of North Dakota. This individual was likely transferred to UTK by Bass in the late 1960s or early 1970s when he began working for UTK. No known individual was identified. No associated funerary objects are present.

Human remains representing, at minimum, one individual was removed from Walworth County, SD. The individual is a child that was removed from the Larson site (39WW2) on an unknown date. Sometime prior to 1971, these human remains were transferred to William Bass at the University of Kansas. In 1971, Bass took these human remains to UTK. Archeological evidence places the Larson site in the Post-Contact Coalescent period (A.D. 1675-1780). Many excavations have taken place at this fortified village site, since the late 1890's, under the direction of L. De Lestry, W.H. Adams and W.H. Casler, W.H. Over, Alfred W. Bowers, J.J. Hoffman and William Bass. No known individuals were identified. There are no associated funerary objects.

Human remains representing, at minimum, two individuals were removed from Walworth County, SD. The individuals include an adult male and an adolescent that were removed from the No Road site (39WW48). These individuals were removed from the site in 1983 and were sent to William Bass at UTK. Little is known about the site, but from observed lithic materials, the site is likely to represent a Pre-Plains village occupation. No known individuals were identified. There are no associated funerary objects.

Cultural Affiliation

Based on the information available and the results of consultation, cultural affiliation is reasonably identified by the geographical location or acquisition history of the human remains and associated funerary objects described in this notice.

Determinations

The U.S. Army Corps of Engineers, Omaha District has determined that:

• The human remains described in this notice represent the physical remains of 59 individuals of Native American ancestry.

• The 394 objects described in this notice are reasonably believed to have been placed intentionally with or near individual human remains at the time of death or later as part of the death rite or ceremony.

• There is a connection between the human remains and associated funerary objects described in this notice and the Three Affiliated Tribes of the Fort Berthold Reservation, North Dakota.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after September 11, 2024. If competing requests for repatriation are received, the U.S. Army Corps of Engineers, Omaha District must determine the most appropriate requestor prior to repatriation. Requests for joint repatriation of the human remains and associated funerary objects are considered a single request and not competing requests. The U.S. Army Corps of Engineers, Omaha District is responsible for sending a copy of this notice to the Indian Tribes and Native Hawaiian organizations identified in this notice.

Authority: Native American Graves Protection and Repatriation Act, 25 U.S.C. 3003, and the implementing regulations, 43 CFR 10.10.

Dated: August 1, 2024.
Melanie O'Brien,
Manager, National NAGPRA Program.

[FR Doc. 2024-17878 Filed 8-9-24; 8:45 am]

BILLING CODE 4312-52-P